DEPARTMENT OF HEALTH AND HUMAN SERVICES

Administration for Children and Families

Proposed Information Collection Activity; Federal Case Registry (Office of Management and Budget #0970-0421)

AGENCY: Office of Child Support Enforcement, Administration for Children and Families, U.S. Department of Health and Human Services.

ACTION: Request for public comments.

SUMMARY: The Office of Child Support Enforcement (OCSE), Administration for Children and Families (ACF), is requesting from the Office of Management and Budget to extend approval of the Federal Case Registry (FCR) for an additional three years. The current approval expires November 30, 2023. OCSE is proposing minor changes to punctuation, formatting, grammar, clarity, and spacing to enable easier completion of the form.

DATES: Comments due within 60 days of publication. In compliance with the requirements of the Paperwork Reduction Act of 1995, ACF is soliciting public comment on the specific aspects of the information collection described above.

ADDRESSES: You can obtain copies of the proposed collection of information and submit comments by emailing infocollection@acf.hhs.gov. All requests should be identified by the title of the information collection.

SUPPLEMENTARY INFORMATION:

Description: The FCR is a national database of information pertaining to child support cases processed by state child support agencies, referred to as “IV-D” cases, and non-IV-D support orders privately established or modified by courts or tribunals on or after October 1, 1998. FCR information is comprised of child support orders and case information from each State Case Registry (SCR). The FCR automatically compares new SCR submissions to existing FCR information and to wage and employment information in the National Directory of New Hires (NDNH). The Federal Parent Locator Service notifies state agencies if an IV-D case participant in the state matches a participant in an IV-D or non-IV-D case in another state and supplies any matched wage and employment information. Matches enable state agencies to locate parties that live in different states, to establish, modify, or enforce child support obligations; to establish paternity; to enforce state law regarding parental kidnapping; and to establish or enforce child custody or visitation determinations. The FCR instrument, Appendix G: Input Transactions Layout, contains minor changes to punctuation, formatting, grammar, clarity, and spacing to enable easier completion of the form.

Respondents: State child support enforcement agencies.

Annual Burden Estimates
Instrument | Total number of respondents | Annual number of responses per respondent | Annual burden hours per response | Annual burden hours
Appendix G: Input Transactions Layout | 54 | 406 | 0.0333 | 730

Estimated Total Annual Burden Hours: 730.

Comments: The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Authority: 42 U.S.C. 653(h); 42 U.S.C. 654a(e); 42 U.S.C. 654a(f)(1).

Mary B. Jones,
ACF/OPRE Certifying Officer.

[FR Doc. 2023-10759 Filed 5-18-23; 8:45 am]

BILLING CODE 4184-41-P